DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans).

SUMMARY: The FHWA, on behalf of Caltrans, is issuing this notice to announce actions taken by Caltrans that are final. The actions relate to a proposed extension of El Segundo from Allied Way to Nash Street in the County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before February 7, 2020. If the Federal law that authorizes judicial review of a claim provides a time period of less than 150 days for filing such claim, then that shorter time period still applies.

FOR FURTHER INFORMATION CONTACT: For Caltrans: Michael Enwedo, Branch Chief Environmental Planning Division, California Department of Transportation—District 7, 100 South Main Street, Los Angeles, California 8:00 a.m. to 5:00 p.m., Pacific Standard Time, telephone 213-897-3245 or email michael.enwedo@dot.ca.gov. For FHWA, contact David Tedrick at 916-498-5024 or email david.tedrick@dot.gov.

SUPPLEMENTARY INFORMATION: Effective July 1, 2007, the FHWA assigned, and Caltrans assumed, environmental responsibilities for this project pursuant to 23 U.S.C. 327. Notice is hereby given that the Caltrans, have taken final agency actions subject to 23 U.S.C. 139(l)(1) by issuing licenses, permits, and approvals for the following highway project in the State of California: The City of El Segundo proposes to extend Park Place from Allied Way to Nash Street with a railroad grade separation. Park Place currently exists in two segments with a roughly quarter mile gap across an undeveloped area which consists of Union Pacific Railroad (UPRR) and Burlington Northern Santa Fe (BNSF) railroad spurs. The project would implement a gap closure to develop Park Place as an alternate east-west route between Pacific Coast Highway (PCH) and Douglas Street to relieve congestion along portions of Rosecrans Avenue and PCH, as well as to improve local traffic circulation and access to and from the 1-105 freeway. The actions by the Federal agencies, and the laws under which such actions were taken, are described in the Final Environmental Assessment (EA) with a Finding of No Significant Impact (FONSI) and Environmental Impact Report (EIR) with a NOD (Notice of Determination) for the project, approved on April 4, 2019, and in other documents in the FHWA project records. The Final EA/FONSI and EIR/NOD, and other project records are available by contacting Caltrans at the addresses provided above. The Final EA/FONSI and EIR/NOD can be viewed and downloaded from the project website at https://www.elsegundo.org/depts/planningsafety/planning/ea_1152_park_place_extension_project/default.asp, or viewed at public libraries in the project area.

This notice applies to all Federal agency decisions as of the issuance date of this notice and all laws under which such actions were taken, including but not limited to:

1. Council on Environmental Quality Regulations (40 CFR 1500 et seq., 23 CFR 771);

2. National Environmental Policy Act of 1969, as amended, 42 U.S.C. 4321 et seq.;

3. Federal-Aid Highway Act of 1970, (23 U.S.C § 109, as amended by FAST Act Section 1404(a), Pub. L. 114-94, and 23 U.S.C. 128);

4. MAP-21, the Moving Ahead for Progress in the 21st Century Act (Pub. L. 112-141)

5. Clean Air Act, as amended (42 U.S.C. 7401 et seq. (Transportation Conformity), 40 CFR part 93);

6. Clear Water Act of 1977 and 1987 (33 U.S.C. 1251 et seq.);

7. Federal Water Pollution Control Act of 1972 (see Clean Water Act of 1977 & 1987)

8. Federal Land Policy and Management Act of 1976, Public Law 94-579

9. Noise Control Act of 1972

10. Safe Drinking Water Act of 1944, as amended

11. Endangered Species Act of 1973

12. Executive Order 11990, Protection of Wetlands

13. Executive Order 13112, Invasive Species

14. Executive Order 13186, Migratory Birds

15. Fish and Wildlife Coordination Act of 1934, as amended

16. Migratory Bird Treaty Act

17. Water Bank Act Wetlands Mitigation Banks, ISTEA 1991, Sections 1006-1007

18. Wildflowers, Surface Transportation and Uniform Relocation Act of 1987 Section 130

19. Coastal Zone Management Act of 1972

20. Coastal Zone Management Act of Reauthorization Amendments of 1900

21. Executive Order 11988, Floodplain Management

22. Department of Transportation (DOT) Executive Order 5650.2—Floodplain Management and Protection (April 23, 1979)

23. Rivers and Harbors Appropriation Act of 1899, Sections 9 and 10

24. Title VI of the Civil Rights Act of 1964, as amended

25. Executive Order 12898, Federal Actions to Address Environmental Justice and Low-Income Populations

(Catalog of Federal Domestic Assistance Program Number 20.205, Highway Planning and Construction. The regulations implementing Executive Order 12372 regarding intergovernmental consultation on Federal programs and activities apply to this program.)

Authority: 23 U.S.C. 139(l)(1).

Issued on: September 3, 2019.
Tashia J. Clemons,
Director, Planning and Environment, Federal Highway Administration, California Division.

[FR Doc. 2019-19536 Filed 9-9-19; 8:45 am]

BILLING CODE 4910-RY-P